DEPARTMENT OF ENERGY

Federal Energy Regulatory Commission

Notice of Commission Staff Attendance

The Federal Energy Regulatory Commission (Commission) hereby gives notice that members of the Commission's staff may attend the following meeting related to the transmission planning activities of the New York Independent System Operator, Inc.

The New York Independent System Operator, Inc. Electric System Planning Working Group Meeting

March 20, 2015, 10:00 a.m.-4:30 p.m. (EST)

The above-referenced meeting will be via web conference and teleconference.

The above-referenced meeting is open to stakeholders.

Further information may be found at: http://www.nyiso.com/public/markets_operations/services/planning/index.jsp.

The New York Independent System Operator, Inc. Electric System Planning Working Group Meeting

April 7, 2015, 10:00 a.m.-4:00 p.m. (EST)

The above-referenced meeting will be via web conference and teleconference.

The above-referenced meeting is open to stakeholders.

Further information may be found at: http://www.nyiso.com/public/markets_operations/services/planning/index.jsp.

The New York Independent System Operator, Inc. Business Issues Committee Meeting

April 15, 2015, 10:00 a.m.-4:00 p.m. (EST)

The above-referenced meeting will be via web conference and teleconference.

The above-referenced meeting is open to stakeholders.

Further information may be found at: http://www.nyiso.com/public/markets_operations/committees/meeting_materials/index.jsp?com=bic.

The New York Independent System Operator, Inc. Operating Committee Meeting

April 16, 2015, 10:00 a.m.-4:00 p.m. (EST)

The above-referenced meeting will be via web conference and teleconference.

The above-referenced meeting is open to stakeholders.

Further information may be found at: http://www.nyiso.com/public/markets_operations/committees/meeting_materials/index.jsp?com=oc.

The New York Independent System Operator, Inc. Electric System Planning Working Group Meeting

April 22, 2015, 10:00 a.m.-4:00 p.m. (EST)

The above-referenced meeting will be via web conference and teleconference.

The above-referenced meeting is open to stakeholders.

Further information may be found at: http://www.nyiso.com/public/markets_operations/services/planning/index.jsp.

The New York Independent System Operator, Inc. Management Committee Meeting

April 29, 2015, 10:00 a.m.-4:00 p.m. (EST)

The above-referenced meeting will be via web conference and teleconference.

The above-referenced meeting is open to stakeholders.

Further information may be found at: http://www.nyiso.com/public/markets_operations/committees/meeting_materials/index.jsp?com=mc.

The discussions at the meeting described above may address matters at issue in the following proceedings:

Docket Nos. ER13-102, ER13-1942, ER13-1946, New York Independent System Operator, Inc. and New York Transmission Owners

Docket No. ER13-1926, PJM Transmission Owners

Docket No. ER13-1947, PJM Interconnection, L.L.C.

Docket No. ER13-1957, ISO New England Inc.

Docket No. ER13-1960, ISO New England Inc., Participating Transmission Owners Administrative Committee, and New England Power Pool Participants Committee

For more information, contact James Eason, Office of Energy Market Regulation, Federal Energy Regulatory Commission at (202) 502-8622 or James.Eason@ferc.gov.

Dated: March 17, 2015.
Kimberly D. Bose,
Secretary.

[FR Doc. 2015-06631 Filed 3-23-15; 8:45 am]

BILLING CODE 6717-01-P